DEPARTMENT OF THE INTERIOR

Bureau of Indian Affairs

[DR.5B711.IA000814]

Indian Gaming

AGENCY: Bureau of Indian Affairs, Interior.

ACTION: Notice of approved Tribal-State Class III Gaming Compact.

SUMMARY: This notice publishes the approval of the Class III Tribal-State Gaming Compact between the Cowlitz Indian Tribe and the State of Washington.

DATES: Effective Date: August 7, 2014.

FOR FURTHER INFORMATION CONTACT: Paula L. Hart, Director, Office of Indian Gaming, Office of the Deputy Assistant Secretary—Policy and Economic Development, Washington, DC 20240, (202) 219-4066.

SUPPLEMENTARY INFORMATION: Under section 11 of the Indian Gaming Regulatory Act (IGRA) Public Law 100-497, 25 U.S.C. 2701 et seq., the Secretary of the Interior shall publish in the Federal Register notice of approved Tribal-State compacts for the purpose of engaging in class III gaming activities on Indian lands. The compact allows for two gaming facilities. The compact also allocates 975 machines for leasing, operation of up to 3000 gaming machines and 125 table games. The compact is in effect until terminated by written agreement of both parties.

Dated: July 31, 2014.
Kevin K. Washburn,
Assistant Secretary—Indian Affairs.

[FR Doc. 2014-18584 Filed 8-6-14; 8:45 am]

BILLING CODE 4310-4N-P